FEDERAL COMMUNICATIONS COMMISSION

47 CFR Part 90

[PS Docket No. 06-229; WT Docket 06-150; WP Docket 07-100; FCC 11-6]

Implementing a Nationwide, Broadband, Interoperable Public Safety Network in the 700 MHz Band

AGENCY: Federal Communications Commission.

ACTION: Notice of proposed rulemaking.

SUMMARY: In this document, the Commission seeks comments on the development of a technical interoperability framework for the nationwide public safety broadband network. This document considers and proposes additional requirements to further promote and enable nationwide interoperability among public safety broadband networks operating in the 700 MHz band. This document addresses public safety broadband network interoperability from a technological perspective and considers interoperability at various communication layers.

DATES: Submit comments on or before April 11, 2011. Submit reply comments on or before May 10, 2011.

ADDRESSES: You may submit comments, identified by PS Docket No. 06-229, WT Docket 06-150 and WP Docket 07-100, by any of the following methods:

• Federal eRulemaking Portal: http://www.regulations.gov. Follow the instructions for submitting comments.

• Agency Web Site: http://www.fcc.gov. Follow the instructions for submitting comments in the Electronic Comment Filing System, http://www.fcc.gov/cgb/ecfs/.

• Commercial overnight mail (other than U.S. Postal Service Express Mail and Priority Mail): Address to 9300 East Hampton Drive, Capitol Heights, MD 20743.

• U.S. Postal Service first-class, Express, and Priority mail: Address to FCC Headquarters, 445 12th Street, SW., Washington DC 20554.

• Hand Delivery/Courier: FCC Headquarters at 445 12th St., SW., Room TW-A325, Washington, DC 20554.

For detailed instructions for submitting comments and additional information on the rulemaking process, see the SUPPLEMENTARY INFORMATION of this document.

FOR FURTHER INFORMATION CONTACT: Jennifer Manner, Federal Communications Commission, Public Safety and Homeland Security Bureau, at (202)-418-3619.

SUPPLEMENTARY INFORMATION: In the Fourth Further Notice of Proposed Rulemaking, FCC 11-6, adopted January 25, 2011, and released January 26, 2011, the Commission sought comment on an initial technical framework for public safety broadband network interoperability. The proposed framework would encompass technical rules for the network; public safety roaming on public safety networks; federal use of the network; testing and verification to ensure interoperability; and other matters relevant to ensuring the interoperability of the network. This full text of this document is available at http://www.fcc.gov/Daily_Releases/Daily_Business/2011/db0204/FCC-11-6A1.pdf.

Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Procedural Matters

Paperwork Reduction Act

The Fourth Further Notice of Proposed Rulemaking contains proposed information collection requirements subject to the Paperwork Reduction Act of 1995 (PRA), Public Law 104-13. The Commission, as part of its continuing effort to reduce paperwork burdens, invites the general public and the Office of Management and Budget (OMB) to comment on the information collection requirements contained in this document, as required by the Paperwork Reduction Act of 1995, Public Law 104-13.

Initial Regulatory Flexibility Analysis

As required by the Regulatory Flexibility Act (RFA),¹ the Commission has prepared this present Initial Regulatory Flexibility Analysis (IRFA) of the possible significant economic impact on small entities by the policies and rules proposed in this Fourth Further Notice of Proposed Rule Making (Fourth Further NPRM). Written public comments are requested on this IRFA. Comments must be identified as responses to the IRFA and must be filed by the deadlines for comments provided herein. The Commission will send a copy of the Fourth Further NPRM, including this IRFA, to the Chief Counsel for Advocacy of the Small Business Administration (SBA).²

¹ See 5 U.S.C. 603. The RFA, see 5 U.S.C. 601 et seq., has been amended by the Contract With America Advancement Act of 1996, Pub. L. No. 104-121, 110 Stat. 847 (1996) (CWAAA). Title II of the CWAAA is the Small Business Regulatory Enforcement Fairness Act of 1996 (SBREFA).

² See 5 U.S.C. 603(a).

A. Need for, and Objectives of, the Proposed Rules

The rules proposed in the Fourth Further NPRM are necessary to ensure the interoperability of 700 MHz public safety broadband networks that are expected to be deployed in the near term. The proposed rules create technical requirements designed to ensure that public safety broadband networks are technically and operationally compatible, so that public safety personnel from various jurisdictions and departments are able to communicate effectively over these networks.

The Fourth Further NPRM proposes changes to part 90 of the rules. Specifically, it proposes to:

(1) Develop a regulatory and operational framework for roaming from one public safety broadband network to another.

(2) Require that public safety broadband networks meet certain technical requirements designed to ensure that networks are technically interoperable or compatible.

(3) Require that public safety broadband networks meet additional requirements designed to ensure that networks achieve a baseline of operability necessary to support interoperable communications.

(4) Require public safety broadband network operators to complete testing for equipment and user devices operated on their networks to ensure conformance with relevant technical standards and ensure interoperability between networks.

(5) Make additional minor edits to part 90.

B. Legal Basis

The proposed action is authorized under sections 1, 2, 4(i), 5(c), 7, 10, 201, 202, 208, 214, 301, 302, 303, 307, 308, 309, 310, 311, 314, 316, 319, 324, 332, 333, 336, 337, 614, 615, and 710 of the Communications Act of 1934, as amended, 47 U.S.C. 151, 152, 154(i), 155(c), 157, 160, 201, 202, 208, 214, 301, 302, 303, 307, 308, 309, 310, 311, 314, 316, 319, 324, 332, 333, 336, 337, 614, 615 and 710.

C. Description and Estimate of the Number of Small Entities to Which the Proposed Rules Will Apply

The RFA directs agencies to provide a description of and, where feasible, an estimate of the number of small entities that may be affected by the proposed rules, if adopted.³ The RFA generally defines the term “small entity” as having the same meaning as the terms “small business,” “small organization,” and “small governmental jurisdiction.” ⁴ In addition, the term “small business” has the same meaning as the term “small business concern” under the Small Business Act.⁵ A small business concern is one which: (1) Is independently owned and operated; (2) is not dominant in its field of operation; and (3) satisfies any additional criteria established by the SBA.⁶

³ 5 U.S.C. 603(b)(3).

⁴ 5 U.S.C. 601(6).

⁵ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁶ Small Business Act, 15 U.S.C. 632 (1996).

The proposed requirements of the Fourth Further NPRM would apply to public safety entities granted authority from the Commission to pursue deployment of public safety broadband networks within their jurisdictions.

The term “small governmental jurisdiction” is defined generally as “governments of cities, towns, townships, villages, school districts, or special districts, with a population of less than fifty thousand.” ⁷ Census Bureau data for 2002 indicate that there were 87,525 local governmental jurisdictions in the United States.⁸ We estimate that, of this total, 84,377 entities were “small governmental jurisdictions.” ⁹ Thus, we estimate that most governmental jurisdictions are small.

⁷ 5 U.S.C. 601(5).

⁸ U.S. Census Bureau, Statistical Abstract of the United States: 2006, Section 8, p. 272, Table 415.

⁹ We assume that the villages, school districts, and special districts are small, and total 48,558. See U.S. Census Bureau, Statistical Abstract of the United States: 2006, section 8, p. 273, Table 417. For 2002, Census Bureau data indicate that the total number of county, municipal, and township governments nationwide was 38,967, of which 35,819 were small. Id.

We anticipate, however, that the vast majority of small governmental jurisdictions will not be directly authorized to serve as operators of their own 700 MHz public safety broadband networks. Rather, we anticipate that such entities will operate primarily under authority granted to larger regional, tribal or national entities to serve as public safety broadband network operators.¹⁰ Accordingly, we anticipate that the proposed requirements that apply directly to public safety network operators are unlikely to directly affect a substantial number of small entities.

¹⁰ We note that none of the twenty-one jurisdictions that applied for and were granted conditional waivers for early public safety broadband network deployment, except one, would qualify as “small governmental jurisdictions.” See 5 U.S.C. 601(5); see also Requests for Waiver of Various Petitioners to Allow the Establishment of 700 MHz Interoperable Public Safety Wireless Broadband Networks, PS Docket 06-229, Order, 25 FCC Rcd 5145, 5147 (2010) (Waiver Order).

D. Description of Projected Reporting, Recordkeeping, and Other Compliance Requirements

The Fourth Further NPRM proposes rule changes that will affect reporting, recordkeeping and other compliance requirements. Each of these changes is described below.

The Fourth Further NPRM, proposes to require public safety broadband networks to support roaming from users of other public safety broadband networks. This would require network operators to provide technical roaming capability within their networks and to support of minimum set of user applications.

The Fourth Further NPRM proposes to require public safety broadband networks to support seamless handover within the network's coverage region. This would require network operators to implement the technical capability to support this feature within their networks.

The Fourth Further NPRM proposes to require public safety broadband networks to adhere to a specified out-of-band-emissions requirement. This would require to public safety network operators to incorporate the proposed out-of-band-emissions requirement into the planning and design of their networks.

The Fourth Further NPRM proposes to require public safety broadband networks to support a minimum set of applications, namely (1) Internet access; (2) Virtual Private Network (VPN) access to any authorized site and to home networks; (3) a status or information “homepage;” (4) provision of network access for users under the Incident Command System; and (5) field-based server applications. This would require public safety network operators to implement the technical capability to support these applications on their networks.

The Fourth Further NPRM proposes to require public safety broadband network to meet performance requirements, namely that they provide outdoor coverage at minimum data rates 768 kbps downlink and 256 kbps uplink, for all types of devices, for a single user at the cell edge. Public safety network operators would need to incorporate these requirements into the planning and design of their networks. Public safety network operators would also be required to certify to the Public Safety and Homeland Security Bureau their compliance with these performance requirements. These certifications would need to be based on a representation of the actual “as-built” network and be accompanied by uplink and downlink data rate plots that map specific performance levels.

The Fourth Further NPRM proposes to require public safety broadband networks to support specified security features, namely (1) The LTE signaling layer security features over the Radio Resource Control (RRC) protocol layer (UE and eNodeB); (2) EPC signaling layer security features over the Non Access Stratum (NAS) protocol layer (UE and MME); (3) and user data/control layer security features over the Packet Data Convergence Sublayer (PDCP) protocol layer (UE and eNodeB).

The Fourth Further NPRM proposes to require public safety broadband networks to meet coverage and coverage reliability requirements. Specifically, it proposes to require public safety broadband networks to provide outdoor coverage reliability at a probability of coverage of 95 percent for all services and applications throughout the network. Public safety network operators would need to incorporate this requirement into the planning and design of their networks.

The Fourth Further NPRM proposes to require each public safety broadband network operator to notify adjacent or bordering jurisdictions prior to deployment, and to allow adjacent or bordering jurisdictions the opportunity to negotiate a formal coordination agreement with the deploying jurisdiction. Any formal written agreements would be required to be submitted to the Bureau.

The Fourth Further NPRM proposes to require public safety broadband network operators to complete conformance testing for the devices used on their network after a testing process for LTE devices operating in the public safety broadband spectrum becomes available. Public safety network operators would also be required to certify to the Commission their completion of conformance testing.

The Fourth Further NPRM proposes to require public safety broadband network operators to submit plans for completing interoperability testing with other public safety broadband networks. The scope of the testing called for in a network operator's plan would be required to be sufficiently broad to address all LTE capabilities and functions required for public safety broadband waiver recipients. Public safety network operators would also be required to certify their performance of such testing in accordance with their approved plans.

The Fourth Further NPRM proposes to require that public safety LTE devices support, at minimum, a five megahertz channel bandwidth. This requirement would need to be taken into account when designing or purchasing devices for use on public safety broadband networks.

E. Steps Taken To Minimize Significant Economic Impact on Small Entities, and Significant Alternatives Considered

The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

The proposed requirements of the Fourth Further NPRM are designed to ensure that public safety broadband networks achieve a baseline of operability and nationwide interoperability. In developing these proposed requirements, the Commission has made significant efforts to ensure that the requirements imposed are the minimum necessary to ensure that public safety broadband networks are truly interoperable. As an alternative to its proposed approach, the Commission could have proposed more detailed and burdensome conditions on the design and implementation of these networks. The proposed rules seek to balance the need for flexibility in network design, cost, and implementation with the demands of nationwide interoperability.

The establishment of differing compliance or reporting requirements for small entities would frustrate the goal of achieving nationwide interoperability. Given the importance of ensuring that public safety broadband networks are technically and operationally compatible, it is important that each network is subject to a comparable set of rules and requirements.

F. Federal Rules That May Duplicate, Overlap, or Conflict With the Proposed Rule

None.

Ordering Clauses

Pursuant to sections 1, 2, 4(i), 5(c), 7, 10, 201, 202, 208, 214, 301, 302, 303, 307, 308, 309, 310, 311, 314, 316, 319, 324, 332, 333, 336, 337, 614, 615, and 710 of the Communications Act of 1934, as amended, 47 U.S.C. 151, 152, 154(i), 155(c), 157, 160, 201, 202, 208, 214, 301, 302, 303, 307, 308, 309, 310, 311, 314, 316, 319, 324, 332, 333, 336, and 337, the Fourth Further Notice of Proposed Rulemaking in PS Docket No. 06-229 is adopted. The Commission's Consumer and Governmental Affairs Bureau, Reference Information Center, shall send a copy of the Fourth Further Notice of Proposed Rulemaking, including the Initial Regulatory Flexibility Analysis, to the Chief Counsel for Advocacy of the Small Business Administration.

List of Subjects in 47 CFR Part 90

Administrative practice and procedure, Business and industry, Civil defense, Common carriers, Communications equipment, Emergency medical services, Individuals with disabilities, Radio, Reporting and recordkeeping requirements.

Federal Communications Commission.
Marlene H. Dortch,
Secretary.

For the reasons discussed in the preamble, the Federal Communications Commission proposes to amend 47 CFR part 90 as follows:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), and 332(c)(7) unless otherwise noted.

2. Section 90.7 is amended by adding the following definitions, Field-Based Server Applications, Incident Command System, Internet Access, Interoperability, Interoperability Testing, Public Safety Narrowband Operator, Roamer, Status or Information Homepage and Virtual Private Network Access to read as follows:

§ 90.7 Definitions.

* * * * *

Field-Based Server Applications. Applications that require client devices to consistently and continuously reach server-based systems from any other location (i.e., field locations) on the Internet.

* * * * *

Incident Command System. A standardized, on-scene, all-hazards incident management approach that allows for the integration of facilities, equipment, personnel, procedures, and communications operating within a common organizational structure; enables a coordinated response among various jurisdictions and functional agencies, both public and private; and establishes common processes for planning and managing resources.

* * * * *

Internet Access. Access to the global internet.

* * * * *

Interoperability. The ability of public safety agencies to communicate with one another via radio communications systems—to exchange voice and/or data with one another on demand, in real time, when needed and when authorized.

Interoperability Testing. Testing to ensure interoperability between or among public safety broadband networks.

* * * * *

Public Safety Narrowband Operator. A Public Safety Narrowband Operator is a public safety entity that is authorized to operate and has deployed narrowband operations within the 763-769 MHz and 793-799 MHz bands.

* * * * *

Roamer. A mobile station receiving service from a station or system in the public safety broadband network other than one to which it is a subscriber.

* * * * *

Status or Information Homepage. A method by which the operator of a host network provides roamers access to and distribution of available applications, alerts, incident-specific information, system status information, and information that the operator deems important to share with roamers on its system.

* * * * *

Virtual Private Network Access. Access to a network, such as a roamer's home network, through use of a Virtual Private Network connection.

3. Section 90.1407 is amended by adding and reserving paragraphs (d) and (e) and adding paragraphs (f) through (j) to read as follows:

§ 90.1407 Spectrum Use in the Network

* * * * *

(d) [Reserved]

(e) [Reserved]

(f) Public Safety Broadband Network Operators must submit to the Chief of the Public Safety and Homeland Security Bureau the following certifications:

(1) Prior to deployment of any Radio Access Network equipment, a certification that it will be in compliance with paragraph (e) of this section as of the date its network achieves service availability.

(2) Prior to deployment of any Radio Access Network equipment, a certification that it has performed interoperability testing on the following 3GPP LTE interfaces: Uu—LTE air interface, S6a—Visited MME to Home HSS, S8—Visited SGW to Home PGW and S9—Visited PCRF to Home PCRF for dynamic policy arbitration.

(3) Within thirty days of the date its network achieves service availability, a certification that its network can provide a minimum outdoor data rate of 256 Kbps uplink and 768 Kbps downlink for all types of devices, per single user at the cell edge.

(4) Six months following the release of a public notice announcing the availability of the PTCRB testing process for 3GPP LTE Band Class 14, a certification that the devices in use on its network have gone through and completed this process.

(g) Out of Band Emissions: Public Safety Broadband Network Operators must adhere to the following limitations on out of band emissions:

(1) On any frequency outside the 763-768 MHz band, the power of any emission shall be attenuated outside the band below the transmitter power (P) by at least 43 + 10 log (P) dB.

(2) On any frequency outside the 793-798 MHz band, the power of any emission shall be attenuated outside the band below the transmitter power (P) by at least 43 + 10 log (P) dB.

(h) Public Safety Broadband Network Operators must support the following applications: Internet access; Virtual Private Network access; a status or information “homepage;” access for users to the Incident Command System; and field-based server applications.

(i) Public Safety Broadband Network Operators must support LTE signaling layer security features over the Radio Resource Control (RRC) protocol layer (UE and eNodeB); EPC signaling layer security features over the Non-Access Stratum (NAS) protocol layer (UE and MME); and user data/control layer security features over the Packet Data Convergence Sublayer (PDCP) protocol layer (UE and eNodeB).

(j) Interference Mitigation. Ninety days prior to the deployment of any Radio Access Network equipment, a Public Safety Broadband Network Operator must provide notice to all adjacent or bordering jurisdictions of its plans for deployment. Any notified jurisdiction may then request, in writing, the opportunity to enter a written frequency coordination agreement with the operator.

(1) Any such agreement, or modification to such agreement, must be submitted to the Public Safety and Homeland Security Bureau within 30 days of its execution.

(2) If parties are unable to execute an agreement within ninety days of the date a request is made, the parties may submit the dispute to the Bureau for resolution.

4. Add § 90.1409 to read as follows:

§ 90.1409 Protection of Incumbent Narrowband Operations

(a) Ninety days prior to the deployment of any Radio Access Network equipment, a Public Safety Broadband Network Operator must provide notice to any incumbent Public Safety Narrowband Operator within its proposed area of operation or in any adjacent or bordering jurisdictions of its plans for deployment. Such notice shall identify:

(1) The geographic borders within which the Public Safety Broadband Network Operator intends to operate;

(2) Any geographic overlap; and

(3) The proposed method of interference mitigation or notice of their intent to relocate the incumbent Public Safety Narrowband Operator.

(b) Any notified jurisdiction shall respond to a notification under paragraph (a) of this section within 60 days. Such response shall identify:

(1) The jurisdictions consent to any proposed interference mitigation or relocation proposal, and any counterproposals; and/or

(2) Specific objections to any element of the notification.

(c) The Public Safety Broadband Network Operator and Public Safety Narrowband Operator shall memorialize such agreements in writing. These agreements, or modification to such agreement, must be submitted to the Public Safety and Homeland Security Bureau within 30 days of its execution.

(d) Any jurisdictions failing to resolve any disputes within 90 days following a response under paragraph (b) of this section may submit the dispute to the Bureau for resolution.

[FR Doc. 2011-4058 Filed 2-23-11; 8:45 am]

BILLING CODE 6712-01-P